DEPARTMENT OF COMMERCE

Patent and Trademark Office

Agency Information Collection Activities; Submission to the Office of Management and Budget (OMB) for Review and Approval; Comment Request; Substantive Submissions Made During Prosecution of the Trademark Application

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on October 23, 2020 during a 60-day comment period. This notice allows for an additional 30 days for public comments.

Agency: United States Patent and Trademark Office, Department of Commerce.

Title: Substantive Submissions Made During Prosecution of the Trademark Application

OMB Control Number: 0651-0054.

Forms: (PTO = Patent and Trademark Office)

• PTO 1553 (Allegation of Use (Statement of Use/Amendment to Allege Use))

• PTO 1581 (Request for Extension of Time to File a Statement of Use)

• PTO 2194 (Petition to Revive Abandoned Application—Failure to Respond Timely to Office Action)

• PTO 2195 (Petition to Revive Abandoned Application—Failure to File Timely Statement of Use or Extension Request)

• PTO 2200 (Request to Delete Section 1(b) Basis, Intent to Use)

• PTO 2202 (Request for Express Abandonment (Withdrawal) of Application)

• PTO 2301 (Petition to Director)

Type of Review: Extension and revision of a currently approved information collection.

Number of Respondents: 337,382 respondents per year.

Average Hour per Response: The USPTO estimates that it will take the public from approximately 25 minutes (0.4 hours) to 65 minutes (1.1 hours) to complete a response, depending on the complexity of the situation. This includes the time to gather the necessary information, prepare the appropriate documents, and submit the information to the USPTO.

Estimated Total Annual Respondent Burden Hours: 211,639 hours.

Estimated Total Annual Non-Hour Cost Burden: $39,702,140.

Needs and Uses: The United States Patent and Trademark Office administers the Trademark Act, 15 U.S.C. 1051 et seq., which provides for the Federal registration of trademarks, service marks, collective trademarks and service marks, collective membership marks, and certification marks. Individuals and businesses that use or intend to use such marks in commerce may file an application to register their mark with the USPTO. Such individuals and businesses may also submit various communications to the USPTO during the prosecution of an application.

This information collection covers the various communications that may be submitted by the applicant, including providing additional information needed to process a request to delete a particular filing basis from an application or to divide an application identifying multiple goods and/or services into two or more separate applications. This information collection also covers requests for a 6-month extension of time to file a statement that the mark is in use in commerce or petitions to revive an application that abandoned for failure to submit a timely response to an office action or a timely statement of use or extension request. In some circumstances, an applicant may expressly abandon an application by filing a written request for withdrawal of the application.

The USPTO amended its regulations to set, increase, or decrease certain trademark fees, to become effective January 2, 2021, including the fees in this information collection.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0054.

Further information can be obtained by:

• Email: InformationCollection@uspto.gov. Include “0651-0054 information request” in the subject line of the message.

• Mail: Kimberly Hardy, Office of the Chief Administrative Officer, United States Patent and Trademark Office, P.O. Box 1450, Alexandria, VA 22313- 1450.

Kimberly Hardy,
Information Collections Officer, Office of the Chief Administrative Officer, United States Patent and Trademark Office.

[FR Doc. 2020-28991 Filed 12-30-20; 8:45 am]

BILLING CODE 3510-16-P